FEDERAL RETIREMENT THRIFT INVESTMENT

Board Member Meeting

September 14, 2020, 10:00 a.m., Telephonic

Board Meeting Agenda

Open Session

1. Approval of the August 24, 2020 Joint Board/ETAC Meeting Minutes

2. Monthly Reports

(a) Investment Performance

(b) Legislative Report

3. Quarterly Report

(c) Vendor Risk Management Update

4. CY 20/21 Board Meeting Calendar Review

5. FY21 Budget Review and Approval

6. External Audit Update

7. Internal Audit Update

Closed Session

Information covered under 5 U.S.C. 552b (c)(4) and (c)(9)(b).

CONTACT PERSON FOR MORE INFORMATION: Kimberly Weaver, Director, Office of External Affairs, (202) 942-1640.

SUPPLEMENTARY INFORMATION: Dial-in (listen only) information: Number: 1-877-446-3914, Code: 5433955.

Dated: September 1, 2020.
Megan Grumbine,
General Counsel, Federal Retirement Thrift Investment Board.

[FR Doc. 2020-19780 Filed 9-4-20; 8:45 am]

BILLING CODE P